SOCIAL SECURITY ADMINISTRATION

[Docket No. SSA 2011-0022]

Privacy Act of 1974, as Amended; Computer Matching Program (SSA/Centers for Medicare & Medicaid Services (CMS))—Match Number 1076

AGENCY: Social Security Administration (SSA).

ACTION: Notice of a renewal of an existing computer matching program that will expire on April 17, 2011.

SUMMARY: In accordance with the provisions of the Privacy Act, as amended, this notice announces a renewal of an existing computer matching program that we are currently conducting with CMS.

DATES: We will file a report of the subject matching program with the Committee on Homeland Security and Governmental Affairs of the Senate; the Committee on Oversight and Government Reform of the House of Representatives, and the Office of Information and Regulatory Affairs, Office of Management and Budget (OMB). The matching program will be effective as indicated below.

ADDRESSES: Interested parties may comment on this notice by either telefaxing to (410) 966-0869 or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Daniel F. Callahan,
Acting Executive Director, Office of Privacy and Disclosure, Office of the General Counsel.

Notice of Computer Matching Program, SSA with the (Centers for Medicare & Medicaid Services (CMS))

A. Participating Agencies

SSA and CMS.

B. Purpose of the Matching Program

The purpose of this matching program is to provide us with health facility admission information. We will use this information to administer the Supplemental Security Income (SSI) efficiently to identify Special Veterans' Benefits (SVB) beneficiaries who are no longer residing outside of the United States.

C. Authority for Conducting the Matching Program

The legal authority for this agreement is executed pursuant to the Privacy Act of 1974 (5 U.S.C. 552a), as amended, (Pub. L. 100-503, the Computer Matching and Privacy Protection Act (CMPPA) of 1988), the Office of Management and Budget (OMB) Circular A-130 entitled, Management of Federal Information Resources, at 61 FR 6428-6435 (February 20, 1996), and OMB guidelines pertaining to computer matching at 54 FR 25818 (June 19, 1989).

The legal authority for the SSI portion of the matching program is contained in sections 1611(e)(1)(A) and (B) and 1631(f) of the Social Security Act (Act) (42 U.S.C. 1382(e)(1)(A) and (B) and 1383(f)); see also 20 CFR 416.211. The legal authority for the SVB portion of the matching program is contained in sections 801 and 806(a) and (b) of the Act (42 U.S.C. 1001 and 1006(a) and (b)).

Section 1631(f) of the Act (42 U.S.C. 1383(f)) requires Federal agencies to provide SSA with such information as necessary to establish eligibility for SSI payments.

D. Categories of Records and Persons Covered by the Matching Program

SSA will provide CMS with a finder file on a monthly basis extracted from SSA's Supplemental Security Income Record and Special Veterans Benefits (SSR/SVB), SSA/ODSSIS 60-0103, with identifying information with respect to recipients of SSI benefits. CMS will match the SSA finder file against the system of records for individuals on the Long Term Care Minimum Data Set (LTC/MDS 09-70-0528) and submit its reply file to SSA no later than 21 days after receipt of the SSA finder file. The Title VIII benefit information is included in the SSI system of records and is paid using SSA's SSI automated system. The indicator identifying Title VIII claims resides on the SSR, SSA/ODSSIS 60-0103, though it is not an SSI payment.

Routine use number 19, effective January 11, 2006, allows disclosure to Federal, State, or local agencies for administering cash or non-cash income maintenance or health maintenance programs.

E. Inclusive Dates of the Matching Program

The effective date of this matching program is April 17, 2011 provided that the following notice periods have lapsed: 30 days after publication of this notice in the Federal Register and 40 days after notice of the matching program is sent to Congress and OMB. The matching program will continue for 18 months from the effective date and may be extended for an additional 12 months thereafter, if certain conditions are met.

[FR Doc. 2011-9094 Filed 4-13-11; 8:45 am]

BILLING CODE 4191-02-P